DEPARTMENT OF COMMERCE

International Trade Administration

[C-533-844]

Certain Lined Paper Products From India: Final Results of Countervailing Duty Administrative Review; 2010

AGENCY: Import Administration, International Trade Administration, Department of Commerce.

SUMMARY: The Department of Commerce (the Department) completed the administrative review on the countervailing duty (CVD) order on certain lined paper products from India for the January 1, 2010, through December 31, 2010, period of review (POR) ¹ in accordance with section 751(a) of the Tariff Act of 1930, as amended (the Act). The respondents in this administrative review are A.R. Printing & Packaging India Private Limited (AR Printing) and its U.S. importer, Gemstone Printing Inc. (Gemstone). Our analysis of comments received is contained in the Decision Memorandum accompanying this Federal Register notice.² The final net subsidy rate for AR Printing is listed below in the “Final Results of Review” section.

¹ See Certain Lined Paper Products From India: Preliminary Results of Countervailing Duty Administrative Review; Calendar Year 2010, 77 FR 61742 (October 11, 2012) (Preliminary Results).

² See Issues and Decision Memorandum from Christian Marsh, Deputy Assistant Secretary for Antidumping and Countervailing Duty Operations, to Paul Piquado, Assistant Secretary for Import Administration, concerning the Final Results of Administrative Review of the Countervailing Duty Order on Certain Lined Paper Products from India (Decision Memorandum).

DATES: Effective Date: April 17, 2013.

FOR FURTHER INFORMATION CONTACT: John Conniff at 202-482-1009, AD/CVD Operations, Office 8, Import Administration, International Trade Administration, U.S. Department of Commerce, 14th Street and Constitution Avenue NW., Washington, DC 20230.

SUPPLEMENTARY INFORMATION:

Background

On September 28, 2006, the Department published in the Federal Register the CVD order on certain lined paper products from India.³ On October 11, 2012, the Department published its preliminary results of administrative review of the CVD order on certain lined paper products from India for the POR. On October 22, 2012, the Department received the Government of India's supplemental questionnaire response. On November 9, 2012, the Department postponed the deadline for case briefs.

³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Lined Paper Order).

On January 25, 2013, the Department extended the time limit for completion of the final results by 60 days to April 9, 2013, in accordance with section 751(a)(3)(A) of the Act.⁴ On February 1, 2013, the Department issued the Post-Preliminary Decision Memorandum in this review.⁵ AR Printing submitted a case brief on February 14, 2013, and petitioner submitted a rebuttal brief on February 22, 2012.

⁴ See Extension of Time Limit for Final Results from John Conniff, Senior International Trade Analyst to Christian Marsh, Deputy Assistant Secretary for Antidumping and Countervailing Duty Operations, dated January 25, 2013.

⁵ See Post-Preliminary Issues and Decision Memorandum from Christian Marsh, Deputy Assistant Secretary for Antidumping and Countervailing Duty Operations, to Paul Piquado, Assistant Secretary for Import Administration, dated February 1, 2013 (Post-Preliminary Decision Memorandum).

No interested party requested a hearing.

Scope of the Order

The merchandise subject to the order is certain lined paper products. The products are currently classifiable under the Harmonized Tariff Schedule of the United States (HTSUS) item numbers: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description, available in the Lined Paper Order, remains dispositive.⁶

⁶ Lined Paper Order, 71 FR at 56950-51.

Analysis of Comments Received

All issues raised in the case and rebuttal briefs by parties to this administrative review are addressed in the Memorandum to Paul Piquado, Assistant Secretary for Import Administration, from Christian Marsh, Deputy Assistant Secretary for Antidumping and Countervailing Duty Operations, “Countervailing Duty (CVD) Review of Certain Lined Paper Products from India: Issues and Decision Memorandum for the Final Results of Review” (“Decision Memorandum”), dated concurrently and hereby adopted by this notice. The analysis of changes to the net subsidy rates that the Department has made since the Preliminary Results are contained in the Department's Post-Preliminary Decision Memorandum. A list of the issues which parties have raised, and to which we have responded in the Decision Memorandum, is attached to this notice as an Appendix. The Decision Memorandum is a public document and is on file electronically via Import Administration's Antidumping and Countervailing Duty Centralized Electronic Service System (IA ACCESS). Access to IA ACCESS is available to registered users at http://iaaccess.trade.gov, and is available to all parties in the Central Records Unit room 7046 of the main Commerce building. In addition, a complete version of the Issues and Decision Memorandum can be accessed directly on the Web at http://ia.ita.doc.gov/frn. The signed Decision Memorandum and the electronic version of the Decision Memorandum are identical in content.

Final Results of Review

The Department determines a net subsidy rate of 100.40 percent ad valorem for AR Printing for the period January 1, 2010, through, December 31, 2010. We adjusted the net subsidy rate to reflect our finding that a program-wide change exists with regard to two subsidy programs to arrive at a cash deposit rate for AR Printing of 94.92 percent ad valorem.

Assessment Rates/Cash Deposits

The Department intends to issue assessment instructions to U.S. Customs and Border Protection (CBP) 15 days after the date of publication of these final results of review to liquidate shipments of subject merchandise by AR Printing entered, or withdrawn form warehouse, for consumption on or after January 1, 2010, through December 31, 2010, at the ad valorem assessment rate listed above. We will also instruct CBP to collect cash deposits for the respondent at the countervailing duty cash deposit rate indicated above on all shipments of the subject merchandise entered, or withdrawn from warehouse, for consumption on or after the date of publication of these final results of review.

For all non-reviewed companies, we will instruct CBP to continue to collect cash deposits at the most recent company-specific or country-wide rate applicable to the company. Accordingly, the cash deposit rates that will be applied to companies covered by this order, but not examined in this review, are those established in the most recently completed administrative proceeding for each company. The cash deposit rates for all companies not covered by this review are not changed by the results of this review, and remain in effect until further notice.

Return or Destruction of Proprietary Information

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these final results in accordance with sections 751(a)(1) and 777(i)(1) of the Act.

Dated: April 9, 2013.
Paul Piquado,
Assistant Secretary for Import Administration.

APPENDIX

I. Summary

II. Programs Determined To Be Countervailable

A. Programs Addressed in the Preliminary Results

1. Pre- and Post-Shipment Export Financing

2. Export Promotion of Capital Goods Scheme (EPCGS)

3. Export Oriented Units (EOU) Reimbursement of Central Sales Tax (CST) Paid on Materials Procured Domestically

4. Export Oriented Units Duty-Free Import of Capital Goods and Raw Materials

5. Market Development Assistance (MDA)

6. Market Access Initiative (MAI)

7. Status Certificate Program

8. Income Deduction Program (80IB Tax Program)

9. Duty Entitlement Passbook Scheme (DEPS)

10. Advance Authorization Program (AAP)

11. Export Processing Zones (Renamed Special Economic Zones)

12. Target Plus Scheme (TPS)

13. Income Tax Exemptions Under Section 10A ⁷

⁷ See Preliminary Decision Memorandum at 14-15, where the Department determined that this program provided countervailable benefits during the POR but was terminated after the POR, effective April 1, 2012.

14. Income Tax Exemptions Under Section 10B ⁸

⁸ See id., where the Department determined that this program provided countervailable benefits during the POR but was terminated after the POR, effective April 1, 2012.

B. Programs Addressed in the Post-Preliminary Decision Memorandum

1. GOI Loan Guarantee Program

2. Tax Incentives Provided by the State Governments of Gujarat and Maharashtra

3. Electricity Duty Exemptions Under the State Government of Maharashtra Package Program of Incentives of 1993

4. Loan Guarantees Based on Octroi Refunds by the State Government of Maharashtra

5. Land for Less Than Adequate Remuneration (LTAR)

III. Analysis of Comments

Comment 1: Whether the Department Should Accept AR Printing's Untimely Request To Withdraw Its Request for Administrative Review

Comment 2: Whether the Department Should Apply AFA to AR Printing

IV. Programs Determined To Be Terminated, Constituting a Program-Wide Change

• Duty Free Replenishment Certificate (DFRC) Program

• Exemption of Export Credit From Interest Taxes

• Income Tax Exemptions Under 80 HHC

[FR Doc. 2013-08900 Filed 4-16-13; 8:45 am]

BILLING CODE 3510-DS-P